ENVIRONMENTAL PROTECTION AGENCY

40 CFR Part 52

[EPA-R02-OAR-2024-0042; FRL 12249-02-R2]

Air Plan Approval; New York; Knowlton Technologies LLC

AGENCY: Environmental Protection Agency (EPA).

ACTION: Final rule.

SUMMARY: The Environmental Protection Agency (EPA) is approving a revision to the State of New York's State Implementation Plan (SIP) for the ozone National Ambient Air Quality Standard (NAAQS) related to a Source-specific SIP (SSSIP) revision for Knowlton Technologies LLC, located at 213 Factory Street, Watertown, New York (the Facility). The control options in this SSSIP revision address volatile organic compound (VOC) Reasonably Available Control Technology (RACT) for the Facility source identified as two 10,000-gallon underground storage tanks holding virgin methanol. This action is being taken in accordance with the requirements of the Clean Air Act (CAA) for implementation of the 2008 and 2015 ozone NAAQS. The EPA proposed to approve this rule on November 26, 2024, and received no comments. This final action will not interfere with ozone NAAQS requirements and meets all applicable requirements of the CAA.

DATES: This final rule is effective on April 23, 2025.

ADDRESSES: The EPA has established a docket for this action under Docket ID Number EPA-R02-OAR-2024-0042. All documents in the docket are listed on the https://www.regulations.gov website. Although listed in the index, some information is not publicly available, e.g., Controlled Unclassified Information (CUI) (formerly referred to as Confidential Business Information (CBI)) or other information whose disclosure is restricted by statute. Certain other material, such as copyrighted material, is not placed on the internet and will be publicly available only in hard copy form. Publicly available docket materials are available electronically through https://www.regulations.gov.

FOR FURTHER INFORMATION CONTACT: Linda Longo, Air Programs Branch, Environmental Protection Agency, 290 Broadway, New York, New York 10007-1866, at (212) 637-3565, or by email at longo.linda@epa.gov.

SUPPLEMENTARY INFORMATION:

Table of Contents

I. What is the background for this action?

II. What comments were received in response to the EPA's proposed action?

III. What action is the EPA taking?

IV. Incorporation by Reference

V. Statutory and Executive Order Reviews

I. What is the background for this action?

A SSSIP revision was submitted to the EPA by the State of New York on February 22, 2023, for Knowlton Technologies LLC, located at 213 Factory Street, Watertown, New York (the Facility), and it replaces and withdraws the SSSIP that was submitted by the State on September 16, 2008. On November 26, 2024, the EPA published a notice of proposed rulemaking that proposed to approve a SSSIP revision to address VOC RACT emission limits for the Facility's two underground storage tanks holding virgin methanol. See 89 FR 93239. Specifically, the notice of proposed rulemaking addressed the following: (1) RACT control options for two 10,000-gallon underground storage tanks holding virgin methanol; (2) Source-specific emission limit where the presumptive VOC limit is not technologically and economically feasible; and (3) a case-by-case VOC emission limit for the two 10,000-gallon underground storage tanks that will restrict the methanol throughput at the tanks to 2,500,000 pounds/year with a 12-month rolling total.

The EPA is determining through this final action that the VOC RACT emission limits included in the February 22, 2023, SSSIP revision are demonstrated to be RACT for the two underground storage tanks. The underground storage tanks have the lowest emission limits with the application of control technology that are reasonably available given the technological and economic feasibility considerations. Furthermore, the VOC RACT emission limits for the underground storage tanks comply with the New York State regulations, 6 NYCRR part 212, “Process Operations,” subpart 212-3, “Reasonably Available Control Technology for Major Facilities,” last approved into New York's SIP by the EPA on October 1, 2021, see 87 FR 54375 (October 1, 2021), and are contained in the Facility's title V operating permit, 6-2218-00017/00009. The permit was issued by the State on December 27, 2022, and it expires on December 26, 2027.

The specific details of New York's SIP submittals and the rationale for the EPA's approval action are explained in the EPA's proposed rulemaking and are not restated in this final action. For this detailed information, the reader is referred to the EPA's November 26, 2024, proposed rulemaking. See 89 FR 93239.

II. What comments were received in response to the EPA's proposed action?

The EPA provided a 45-day review and comment period for the November 26, 2024, proposed rulemaking. The comment period ended on January 10, 2025. We received no comments on the EPA's action.

III. What action is the EPA taking?

The EPA is approving the SSSIP revision because the limits included in the SSSIP are demonstrated to implement RACT for the two 10,000-gallon underground storage tanks holding virgin methanol. Based on information provided by NYSDEC, a review of similar sources, and an analysis of the February 22, 2023, SSSIP revision, the EPA is approving the VOC emission limits for the two tanks as implementing RACT.

Specifically, the EPA is approving the following limits and associated requirements as implementing RACT: the Facility must: (1) Limit VOC emissions by restricting the methanol throughput to 2,500,000 pounds/year with a 12-month rolling total; (2) maintain monthly records to verify the throughput in support of a 12-month rolling total; (3) upon any increase in throughput beyond 2,500,000 pounds/year, submit a VOC RACT demonstration that implements RACT at the higher methanol throughput rate.

IV. Incorporation by Reference

In this document, the EPA is finalizing regulatory text that includes incorporation by reference. In accordance with requirements of 1 CFR 51.5, the EPA is finalizing the incorporation by reference of the Knowlton Technologies VOC case-by-case RACT limit described in the amendments to 40 CFR part 52 as discussed in section I. of this preamble. These documents are available in the docket of this rulemaking through www.regulations.gov. Therefore, these materials have been approved by the EPA for inclusion in the State Implementation Plan, have been incorporated by reference by the EPA into that plan, are fully Federally enforceable under sections 110 and 113 of the CAA as of the effective date of the final rulemaking of the EPA's approval, and will be incorporated by reference in the next update to the SIP compilation.¹

¹ 62 FR 27968 (May 22, 1997).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and it will not impose substantial direct costs on Tribal governments or preempt Tribal law as specified by Executive Order 13175 (65 FR 67249, November 9, 2000).

This action is subject to the Congressional Review Act, and the EPA will submit a rule report to each House of the Congress and the Comptroller General of the United States. This action is not a “major rule” as defined by 5 U.S.C. 804(2).

Under section 307(b)(1) of the Clean Air Act, petitions for judicial review of this action must be filed in the United States Court of Appeals for the appropriate circuit by May 23, 2025. Filing a petition for reconsideration by the Administrator of this final rule does not affect the finality of this action for the purposes of judicial review nor does it extend the time within which a petition for judicial review may be filed and shall not postpone the effectiveness of such rule or action. This action may not be challenged later in proceedings to enforce its requirements. (See section 307(b)(2)).

List of Subjects in 40 CFR Part 52

Environmental protection, Air pollution control, Incorporation by reference, Intergovernmental relations, Ozone, Reporting, Recordkeeping requirements, and Volatile organic compound.

Michael Martucci,
Regional Administrator, Region 2.

For the reasons set forth in the preamble, EPA amends 40 CFR part 52 as follows:

PART 52—APPROVAL AND PROMULGATION OF IMPLEMENTATION PLANS

1. The authority citation for part 52 continues to read as follows:

Authority: 42 U.S.C. 7401 et seq.

Subpart HH—New York

2. Amend § 52.1670, in the table in paragraph (d), by adding the entry “Knowlton Technologies LLC ” at the end of the table to read as follows:

§ 52.1670 Identification of plan.

* * * * *

(d) * * *

EPA—Approved New York Source—Specific Provisions
Name of source | Identifier No. | State effective date | EPA approval date | Comments
* * * * * * *
Knowlton Technologies LLC | 6-2218-00017/00009 | 12/27/2022 | 3/24/2025, [INSERT FIRST PAGE OF FEDERAL REGISTER CITATION] | RACT emission limit for condition 32, emission unit 1-TANKS.

* * * * *

[FR Doc. 2025-04910 Filed 3-21-25; 8:45 am]

BILLING CODE 6560-50-P